DEPARTMENT OF VETERANS AFFAIRS

38 CFR Part 3

RIN 2900-AJ44

Well-Grounded Claims

AGENCY: Department of Veterans Affairs.

ACTION: Withdrawal of proposed rule.

SUMMARY: In a document published in the Federal Register at 64 FR 67528 on December 2, 1999, the Department of Veterans Affairs (VA) proposed to amend its adjudication regulations concerning a claimant's statutory responsibility to support his or her claim with evidence adequate to make the claim “well grounded.” The proposed rule also addressed VA's duty to help claimants who have filled well-grounded claims obtain evidence pertinent to their claims. This document withdraws that proposed rule.

Subsequent to the publication of the proposed rule, the Veterans Claims Assistance Act of 2000 (VCAA), Pub. L. No. 106-475, 114 Stat. 2096, was signed into law. The VCAA eliminated the claimant's responsibility to file a well-grounded claim and redefined VA's duty to help claimants obtain evidence relevant to their claims. Therefore, we are withdrawing the proposed rule and preparing a new proposed rule to implement the new statutory requirements.

DATES: The proposed rule is withdrawn as of February 26, 2001.

FOR FURTHER INFORMATION CONTACT: Janice Jacobs, Consultant, Policy and Regulations Staff, Compensation and Pension Service, Veterans Benefits Administration, 810 Vermont Ave., NW, Washington, DC 20420, telephone (202) 273-7223.

Approved: February 15, 2001.
Anthony J. Principi,
Secretary of Veterans Affairs.

[FR Doc. 01-4634 Filed 2-23-01; 8:45 am]

BILLING CODE 8320-01-P